DEPARTMENT OF COMMERCE

International Trade Administration

Notice of Scope Ruling Applications Filed in Antidumping and Countervailing Duty Proceedings

AGENCY: Enforcement and Compliance, International Trade Administration, Department of Commerce.

SUMMARY: The U.S. Department of Commerce (Commerce) received scope ruling applications, requesting that scope inquiries be conducted to determine whether identified products are covered by the scope of antidumping duty (AD) and/or countervailing duty (CVD) orders and that Commerce issue scope rulings pursuant to those inquiries. In accordance with Commerce's regulations, we are notifying the public of the filing of the scope ruling applications listed below in the month of June 2022.

DATES: Applicable July 26, 2022.

FOR FURTHER INFORMATION CONTACT: Terri Monroe, AD/CVD Operations, Customs Liaison Unit, Enforcement and Compliance, International Trade Administration, U.S. Department of Commerce, 1401 Constitution Avenue NW, Washington, DC 20230, telephone: (202) 482-1384.

Notice of Scope Ruling Applications: In accordance with 19 CFR 351.225(d)(3), we are notifying the public of the following scope ruling applications related to AD and CVD orders and findings filed in or around the month of June 2022. This notification includes, for each scope application: (1) identification of the AD and/or CVD orders at issue (19 CFR 351.225(c)(1)); (2) concise public descriptions of the products at issue, including the physical characteristics (including chemical, dimensional and technical characteristics) of the products (19 CFR 351.225(c)(2)(ii)); (3) the countries where the products are produced and the countries from where the products are exported (19 CFR 351.225(c)(2)(i)(B)); (4) the full names of the applicants; and (5) the dates that the scope applications were filed with Commerce and the name of the scope segment where the scope applications can be found on Commerce's online e-filing and document management system, Antidumping and Countervailing Duty Electronic Service System (ACCESS).¹ This notice does not include applications which have been rejected and not properly resubmitted. The scope ruling applications listed below are available on ACCESS, at https://access.trade.gov.

¹ See Regulations to Improve Administration and Enforcement of Antidumping and Countervailing Duty Laws, 86 FR 52300, 52316 (September 20, 2021) (“It is our expectation that the Federal Register list will include, where appropriate, for each scope application the following data: (1) identification of the AD and/or CVD orders at issue; (2) a concise public summary of the product's description, including the physical characteristics (including chemical, dimensional and technical characteristics) of the product; (3) the country(ies) where the product is produced and the country from where the product is exported; (4) the full name of the applicant; and (5) the date that the scope application was filed with Commerce.”).

Scope Ruling Applications

Aluminum Extrusions from the People's Republic of China (China) (A-570-967/C-570-968); aluminum pair ramps; ² produced in and exported from China; submitted by Central Purchasing, LLC dba Harbor Freight Tools (Harbor Freight); June 1, 2022; ACCESS scope segment “Harbor Freight Aluminum Pair Ramps.”

² The products subject to Harbor Freight's request include aluminum pair ramps with bolted-on polyester straps with S-hooks and ratchets, produced in and exported from China under HTSUS code 8708.29.5060. The dimensions and loading capacities of the aluminum pair ramps are approx. 12 x 90 inches and 3,000 pounds, 13 x 77 inches and 1,250 pounds, and 12 x 90 inches and 1,500 pounds.

Crystalline Silicon Photovoltaic Cells, Whether or Not Assembled into Modules (Solar Cells) from China (A-570-979/C-570-980); Power Solar 3-Port 100W solar panel (model A2431) (3 Port 100W Solar Panel); ³ produced in and exported from China; submitted by Anker Innovations Limited (Anker); June 2, 2022; ACCESS scope segment “Anker 3 Port 100W Solar Panel.”

³ Anker's PowerSolar 3-Port 100W solar panel, Model A2431, is a foldable outdoor panel for charging cell phones and other portable electronic devices. The panel provides total maximum output of 100 Watts. The solar panel is laminated and encased in sewn fabric. The unfolded panel dimensions are approx. 57.7 x 20.7 x 1.8 inches (1,446 x 525 x 45 mm). The dimensions of the retracted case are approx. 20.7 x 18.5 x 3.3 inches (525 x 470 x 85 mm). The unit weighs approx. 11.0 lbs (5 kg). The solar cells have visible parallel grid collector metallic wire lines every 1 mm across each solar panel. The unit has two storage pockets for storing charging accessories and other devices. The unit's charging is provided via a Female USB-A wire and port.

Solar Cells from China (A-570-979/C-570-980); Renogy brand off-grid solar panels; ⁴ produced in and exported from China; submitted by RNG International Inc. (RNG); June 10, 2022; ACCESS scope segment “RNG International.”

⁴ The products subject to this scope ruling request are Renogy brand off-grid solar panels. Models KIT-STCS100D-NC, RNG-100D-SS, and KIT-STCS100D-VOY20 are off-grid 100 watt solar panels with regular mono crystalline solar cells (100w panel). Models 50D-SS and RKIT50DST are off-grid 50 watt solar panels (50w panel). Each model has a glass cover and has a power output of 100 watts or less. Additionally, each panel has a surface area under 8,000 cm2. The 100w panel's surface area is 6420cm2 and the 50w panel's surface area is 2960cm2. None of the panels have built-in inverters and each one contains a permanently connected wire that terminates in a two-port rectangular connector with two pins in square housings of different colors. Each panel also includes visible parallel grid collector metallic wire lines every 1.4 millimeters across each solar cell. Model RNG-100DB-H is an off-grid 100 watt flexible solar panel with regular mono crystalline solar cells that does not contain a glass cover (flexible panel). The flexible panel has a total power output of 100 watts or less and a maximum surface area of 6,655.74 cm2. The flexible panel is not equipped with a built-in inverter. The flexible panel includes visible parallel grid collector metallic wire lines every 1 millimeters across each solar cell. Additionally, the flexible panel is encased in a laminated material without stitching. Each model is packaged in individual retail boxes with warranty cards and expanded polypropylene, or EPP, corner protectors, in its condition as imported into the United States.

Notification to Interested Parties

This list of scope ruling applications is not an identification of scope inquiries that have been initiated. In accordance with 19 CFR 351.225(d)(1), if Commerce has not rejected a scope ruling application nor initiated the scope inquiry within 30 days after the filing of the application, the application will be deemed accepted and a scope inquiry will be deemed initiated the following day—day 31.⁵ Commerce's practice generally dictates that where a deadline falls on a weekend, Federal holiday, or other non-business day, the appropriate deadline is the next business day.⁶ Accordingly, if the 30th day after the filing of the application falls on a non-business day, the next business day will be considered the “updated” 30th day, and if the application is not rejected or a scope inquiry initiated by or on that particular business day, the application will be deemed accepted and a scope inquiry will be deemed initiated on the next business day which follows the “updated” 30th day.⁷

⁵ In accordance with 19 CFR 351.225(d)(2), within 30 days after the filing of a scope ruling application, if Commerce determines that it intends to address the scope issue raised in the application in another segment of the proceeding (such as a circumvention inquiry under 19 CFR 351.226 or a covered merchandise inquiry under 19 CFR 351.227), it will notify the applicant that it will not initiate a scope inquiry, but will instead determine if the product is covered by the scope at issue in that alternative segment.

⁶ See Notice of Clarification: Application of “Next Business Day” Rule for Administrative Determination Deadlines Pursuant to the Tariff Act of 1930, As Amended, 70 FR 24533 (May 10, 2005).

⁷ This structure maintains the intent of the applicable regulation, 19 CFR 351.225(d)(1), to allow day 30 and day 31 to be separate business days.

In accordance with 19 CFR 351.225(m)(2), if there are companion AD and CVD orders covering the same merchandise from the same country of origin, the scope inquiry will be conducted on the record of the AD proceeding. Further, please note that pursuant to 19 CFR 351.225(m)(1), Commerce may either apply a scope ruling to all products from the same country with the same relevant physical characteristics, (including chemical, dimensional, and technical characteristics) as the product at issue, on a country-wide basis, regardless of the producer, exporter, or importer of those products, or on a company-specific basis.

For further information on procedures for filing information with Commerce through ACCESS and participating in scope inquiries, please refer to the Filing Instructions section of the Scope Ruling Application Guide, at https://access.trade.gov/help/Scope_Ruling_Guidance.pdf. Interested parties, apart from the scope ruling applicant, who wish to participate in a scope inquiry and be added to the public service list for that segment of the proceeding must file an entry of appearance in accordance with 19 CFR 351.103(d)(1) and 19 CFR 351.225(n)(4). Interested parties are advised to refer to the case segment in ACCESS as well as 19 CFR 351.225(f) for further information on the scope inquiry procedures, including the timelines for the submission of comments.

Please note that this notice of scope ruling applications filed in AD and CVD proceedings may be published before any potential initiation, or after the initiation, of a given scope inquiry based on a scope ruling application identified in this notice. Therefore, please refer to the case segment on ACCESS to determine whether a scope ruling application has been accepted or rejected and whether a scope inquiry has been initiated.

Interested parties who wish to be served scope ruling applications for a particular AD or CVD order may file a request to be included on the annual inquiry service list during the anniversary month of the publication of the AD or CVD order in accordance with 19 CFR 351.225(n) and Commerce's procedures.⁸

⁸ See Scope Ruling Application; Annual Inquiry Service List; and Informational Sessions, 86 FR 53205 (September 27, 2021).

Interested parties are invited to comment on the completeness of this monthly list of scope ruling applications received by Commerce. Any comments should be submitted to James Maeder, Deputy Assistant Secretary for AD/CVD Operations, Enforcement and Compliance, International Trade Administration, via email to CommerceCLU@trade.gov.

This notice of scope ruling applications filed in AD and CVD proceedings is published in accordance with 19 CFR 351.225(d)(3).

Dated: July 20, 2022.
Scot Fullerton,
Associate Deputy Assistant Secretary for Antidumping and Countervailing Duty Operations.

[FR Doc. 2022-16010 Filed 7-25-22; 8:45 am]

BILLING CODE 3510-DS-P